DEPARTMENT OF ENERGY

Office of Electricity Delivery and Energy Reliability

Public Scoping Meeting on Study of Energy Rights-of-Way on Tribal Lands

AGENCY: Office of Electricity Delivery and Energy Reliability, Department of Energy; Office of Indian Energy and Economic Development, Department of the Interior.

ACTION: Notice of May 15, 2006, Deadline for Submitting Information and Comments.

SUMMARY: This notice advises the public that the Department of Energy (“DOE”) and Department of the Interior (“DOI”) (collectively referred to as the “Departments”) have set May 15, 2006, as the deadline for submission of information and comments regarding the study being conducted pursuant to section 1813 of the Energy Policy Act of 2005. The Departments invite the public to provide any information relevant to the topics being studied pursuant to section 1813 by May 15, 2006. The Departments encourage the public to submit information electronically to the email address given below.

DATES: All submissions are due May 15, 2006, to the contact listed below in the ADDRESSES section.

ADDRESSES: Please send written information and comments by regular mail to Attention: Section 1813 ROW Study, Office of Indian Energy and Economic Development, 1849 C St., NW., Mail Stop 2749-MIB, Washington, DC, 20240 or by e-mail to IEED@bia.edu.

FOR FURTHER INFORMATION CONTACT: Mr. Darryl Francois, Office of Indian Energy and Economic Development, 1849 C St., NW., Mail Stop 2749-MIB, Washington, DC, 20240. He can also be reached by telephone at (202) 219-0740 or by e-mail at darryl.francois@mms.gov. Please contact Mr. David Meyer via mail at, Department of Energy, Office of Electricity Delivery and Energy Reliability, 1000 Independence Ave., SW., Washington, DC 20585, via phone at (202)586-3118, or via e-mail at david.meyer@hq.doe.gov.

SUPPLEMENTARY INFORMATION: Section 1813 of Energy Policy Act of 2005 requires the Secretaries of the Departments of the Interior and Energy (the “Secretaries”) to jointly conduct a study of energy rights-of-way on tribal land. Specifically, section 1813 requires the Secretaries submit to Congress a report on the findings of the study, including:

(1) An analysis of historic rates of compensation paid for energy rights-of-way on tribal land;

(2) Recommendations for appropriate standards and procedures for determining fair and appropriate compensation to Indian tribes for grants, expansions, and renewals for energy rights-of-way on tribal land;

(3) An assessment of the tribal self-determination and sovereignty interests implicated by applications for the grant, expansion, or renewal of energy rights-of-way on tribal land; and

(4) An analysis of relevant national energy transportation policies relating to grants, expansions, and renewals of energy rights-of-way on tribal land.

At meetings in March and April, the Departments sought the public's input on information related to the historic rates of compensation paid for energy rights-of-way on tribal land that are important for the Departments to consider in the study. While the Departments are making good progress in this regard, we continue to seek factual information from the public to support specific case studies that members of the public regard as relevant to one or more elements of the study.

Issued in Washington, DC, on May 1, 2006.
Kevin M. Kolevar,
Director, Office of Electricity Delivery and Energy Reliability, U.S. Department of Energy.

[FR Doc. E6-6864 Filed 5-4-06; 8:45 am]

BILLING CODE 6450-01-P